DEPARTMENT OF THE INTERIOR

Fish and Wildlife Service

[Docket No. FWS-HQ-IA-2017-0099; FXIA16710900000-178-FF09A30000]

Endangered Foreign Species and Protected Marine Mammals; Receipt of Permit Applications

AGENCY: Fish and Wildlife Service, Interior.

ACTION: Notice of receipt of permit applications.

SUMMARY: We, the U.S. Fish and Wildlife Service, invite the public to comment on applications to conduct certain activities with foreign endangered species and marine mammals. With some exceptions, the Endangered Species Act (ESA) prohibits activities with listed species unless Federal authorization is acquired that allows such activities. The ESA also requires that we invite public comment before issuing these permits.

DATES: We must receive comments by April 6, 2018.

ADDRESSES:

Document availability: The applications, as well as any comments and other materials that we receive, will be available for public inspection online in Docket No. FWS-HQ-IA-2017-0099 at http://www.regulations.gov.

Submitting Comments: You may submit comments by one of the following methods:

• Federal eRulemaking Portal: http://www.regulations.gov. Follow the instructions for submitting comments on Docket No. FWS-HQ-IA-2017-0099.

• U.S. mail or hand-delivery: Public Comments Processing, Attn: Docket No. FWS-HQ-IA-2017-0099; U.S. Fish and Wildlife Service Headquarters, MS: BPHC; 5275 Leesburg Pike, Falls Church, VA 22041-3803.

When submitting comments, please indicate the name of the applicant and the PRT# at the beginning of your comment. We will post all comments on http://www.regulations.gov. This generally means that we will post any personal information you provide us (see SUPPLEMENTARY INFORMATION for more information).

FOR FURTHER INFORMATION CONTACT: Joyce Russell, 703-358-2280.

SUPPLEMENTARY INFORMATION:

I. Public Comment Procedures

A. How do I comment on submitted applications?

You may submit your comments and materials by one of the methods listed above under Submitting Comments in ADDRESSES. We will not consider comments sent by email or fax, or to an address not in ADDRESSES.

Please make your requests or comments as specific as possible, confine your comments to issues for which we seek comments in this notice, and explain the basis for your comments. Include sufficient information with your comments to allow us to authenticate any scientific or commercial data you include.

The comments and recommendations that will be most useful and likely to influence agency decisions are: (1) Those supported by quantitative information or studies; and (2) those that include citations to, and analyses of, the applicable laws and regulations. We will not consider or include in our administrative record comments we receive after the close of the comment period (see DATES) or comments delivered to an address other than those listed above in ADDRESSES.

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

C. Who will see my comments?

If you submit a comment via http://www.regulations.gov, your entire comment, including any personal identifying information, will be posted on the website. If you submit a hardcopy comment that includes personal identifying information, such as your address, phone number, or email address, you may request at the top of your document that we withhold this information from public review. However, we cannot guarantee that we will be able to do so.

II. Background

To help us carry out our conservation responsibilities for affected species, and in consideration of section 10(a)(1)(A) of the Endangered Species Act of 1973, as amended (ESA; 16 U.S.C. 1531 et seq.), and the Marine Mammal Protection Act of 1972, as amended (MMPA; 16 U.S.C. 1361 et seq.), we invite public comment on these permit applications before final action is taken. Under the MMPA, you may request a hearing on any MMPA application received. If you request a hearing, give specific reasons why a hearing would be appropriate. The holding of such a hearing is at the discretion of the Service Director.

III. Permit Applications

A. Endangered Species

Applicant: IDEXX Reference Laboratories, Westbrook, ME; PRT-57489C

The applicant requests a permit to import blood samples derived from captive-bred black rhinoceros (Diceros bicornis) from African Safari, Puebla, Mexico, for scientific research. This notification is for a single import.

Applicant: American Museum of Natural History, New York, NY; PRT-26682C

The applicant requests a permit to export, re-export, and import biological samples, parts, and products from live, dead, wild, and captive-born endangered mammals (excluding marine mammals), birds, reptiles, fish, amphibians, and invertebrates from worldwide locations for the purpose of scientific research. This notification covers activities to be conducted by the applicant over a 5-year period.

Applicant: OdySea Aquarium, Scottsdale, AZ; PRT-62534C

The applicant requests a captive-bred wildlife registration under 50 CFR 17.21(g) for the African penguin (Spheniscus demersus) to enhance species propagation or survival. This notification covers activities to be conducted by the applicant over a 5-year period.

Applicant: East Texas Ranch, LP, Athens, TX; PRT-37142A

The applicant requests a captive-bred wildlife registration under 50 CFR 17.21(g) for the barasingha (Rucervus duvaucelii) to enhance species propagation or survival. This notification covers activities to be conducted by the applicant over a 5-year period.

Applicant: East Texas Ranch, LP, Athens, TX; PRT-51951C

The applicant requests a permit authorizing the culling of excess barasingha (Rucervus duvaucelli) from the captive herd maintained at their facility, to enhance the species' propagation and survival. This notification covers activities to be conducted by the applicant over a 5-year period.

Multiple Trophies

The following applicants each request a permit to import sport-hunted trophies of a male bontebok (Damaliscus pygargus pygargus) culled from a captive herd maintained under the management program of the Republic of South Africa, for the purpose of enhancing the propagation or survival of the species.

Applicant: Alan Long, Talala, OK; PRT-63010C

Applicant: Michael Towbin, Kirkland, WA; PRT-59012C

Applicant: Terry Anderson, Bozeman, MT; PRT-52689C

Applicant: Robert Gwin, Oklahoma City, OK; PRT-55023C

Applicant: Scott Roleson, Whiting, NJ; PRT-54410C

B. Marine Mammals

Applicant: USGS-Southeast Ecological Science CTR, Gainesville, FL; PRT-791721

The applicant requests authorization to renew and amend their permit to export, import, and re-export biological samples of live and dead Sirenia (all species of manatees and dugongs, including Trichechus manatus latirostris, T. m. manatus, Trichechus inunguis, Trichechus senegalensis, and Dugong dugon) for the purpose of scientific research. This notification covers activities to be conducted by the applicant over a 5-year period. Concurrent with publishing this notice in the Federal Register, we are forwarding copies of the above applications to the Marine Mammal Commission and the Committee of Scientific Advisors for their review.

IV. Next Steps

If the Service decides to issue permits to any of the applicants listed in this notice, we will publish a notice in the Federal Register. You may locate the Federal Register notice announcing the permit issuance date by searching http://www.regulations.gov under the permit number listed in this document (e.g., PRT-12345c).

V. Authority

Endangered Species Act of 1973 as amended (16 U.S.C. 1531 et seq.); Marine Mammal Protection Act of 1972 (16 U.S.C. 1361 et seq.).

Joyce Russell,
Government Information Specialist, Branch of Permits, Division of Management Authority.

[FR Doc. 2018-04608 Filed 3-6-18; 8:45 am]

BILLING CODE 4333-15-P